OFFICE OF PERSONNEL MANAGEMENT

[OMB No. 3206-0005]

Proposed Collection; Comment Request for Proposed Clearance of Revised Information Collections

AGENCY: Office of Personnel Management.

ACTION: Notice.

SUMMARY: In accordance with the Paperwork Reduction Act of 1995 (Pub. L. 104-13), this notice announces that the Office of Personnel Management (OPM) intends to submit to the Office of Management and Budget a request for clearance of these information collections:

• Questionnaire for Non-Sensitive Positions, Standard Form 85 (SF 85);

• Questionnaire for Public Trust Positions, Standard Form 85P (SF 85P);

• Supplemental Questionnaire for Selected Positions, Standard Form 85P-S (SF 85P-S);

• Questionnaire for National Security Positions, Standard Form 86 (SF 86);

• Continuation Sheet for Questionnaires SF 86, 85P, and 85, Standard Form 86A (SF 86A);

• Certification Statement for SF 86, Standard Form SF 86C (SF 86C); and

• Parallel, electronic versions of the SF 85, SF 85P, and SF 86, including accompanying releases, housed in a system named e-QIP (Electronic Questionnaires for Investigations Processing)

These information collections are completed by applicants for, or incumbents of, Government positions, or positions for the Government under contract, or by military personnel. The collections are used as the basis of information for background investigations to establish that such persons are suitable for:

• Employment or retention in employment;

• Employment or retention as contractor; or eligible for:

• A public trust position; or

• Employment or retention as a Federal employee, Federal contractor or military personnel in a sensitive or national security position requiring access to classified national security information or special nuclear information or material.

When use is necessary, the SF 86A is used in lieu of blank paper as a continuation of the form with which its use is associated and not for any unique purpose exclusive from the associated form.

Comments are particularly invited on:

• Whether this collection of information is necessary for the proper performance of functions of the Office of Personnel Management and its Center for Federal Investigative Services, which administers background investigations;

• Whether our estimate of the public burden of this collection is accurate, and based on valid assumptions and methodology; and

• Ways in which we can minimize the burden of the collection of information on those who are to respond, through use of the appropriate technological collection techniques or other forms of information technology.

• Ways in which we can enhance the quality, utility, and clarity of the information to be collected.

The SF 85, SF 85P, SF 85P-S, SF 86, SF 86A, and SF 86C are completed by both employees of the Federal Government and individuals not employed with the Federal Government, including Federal contractors, and military personnel.

Federal employees are defined as those individuals who are employed as civilian or military personnel with the Federal Government. Non-Federal employees include members of the general public and all individuals employed as Federal and military contractors, or individuals otherwise not directly employed by the Federal Government.

It is estimated that 17,000 non-Federal individuals will complete the SF 85 annually. Each form takes approximately 30 minutes to complete. The estimated annual public burden is 8,500 hours.

It is estimated that 49,000 non-Federal individuals will complete the SF 85P annually. Each form takes approximately 60 minutes to complete. The estimated annual burden is 49,000 hours.

It is estimated that 3,600 non-Federal individuals will complete the SF 85P-S annually. Each form takes approximately 10 minutes to complete. The estimated annual burden is 600 hours.

It is estimated that 56,000 non-Federal individuals will complete the SF 86 annually. Each form takes approximately 90 minutes to complete. The estimated annual burden is 84,000 hours.

It is estimated that 16,000 non-Federal individuals will complete the SF 86A annually. When this continuation form is used, however, no public burden estimate is provided as it is included with the time computed with the associated security questionnaire.

It is estimated that 1,200 non-Federal individuals will complete the SF 86C annually. Each form takes approximately 15 minutes to complete. The estimated annual burden is 300 hours.

e-QIP (Electronic Questionnaires for Investigations Processing) is a Web-based system application that houses or will house electronic versions or the SF 86, SF 85P, SF 85P-S, and SF 85. The SF 86 is in full production and the SF 85P, SF 85P-S and SF 85 will be available for full production by early 2005. This Internet data collection tool is used in place of—not in addition to—the paper versions of these forms. Individuals using the e-QIP versions will enjoy more convenience, faster processing time, and immediate data validation to ensure accuracy of their personal history information. The data requested on these forms is consistent with that requested on their paper counterparts. e-QIP is a newly implemented system, which accounts for approximately 5% of all security forms submitted at this time. As implementation among Federal agencies expands, it is anticipated that the percentage of all security forms processed through e-QIP will exceed 50% by 2006.

While e-QIP will significantly enhance the processing of security questionnaires for processing of background investigations, we do not expect an immediate discernable change to the public burden hours from those cited above for identical paper versions of the forms.

For copies of this proposal, contact Mary Beth Smith-Toomey on (202) 606-8358, Fax (202) 418-3251, or e-mail at mbtoomey@opm.gov. Please be sure to include a mailing address with your request.

DATES: Comments on this proposal should be received within 60 calendar days from the date of this publication.

ADDRESSES: Send or deliver comments to: Kathy Dillaman, Deputy Associate Director, Center for Federal Investigative Services, U.S. Office of Personnel Management, 1900 E. Street, Room 5416, Washington, DC 20415.

FOR INFORMATION REGARDING ADMINISTRATIVE COORDINATION CONTACT: Doug Steele—Program Analyst, Standards and Evaluations Group, Center for Federal Investigative Services, U.S. Office of Personnel Management, (202) 606-2325.

U.S. Office of Personnel Management.
Kay Coles James,
Director.

[FR Doc. 05-1280 Filed 1-24-05; 8:45 am]

BILLING CODE 6325-38-P